DEPARTMENT OF JUSTICE

Notice of Lodging Proposed Consent Decree

In accordance with Departmental Policy, 28 CFR 50.7, notice is hereby given a proposed consent decree in United States v. Frenchtown Harbor, Inc., United States District Court, Eastern District of Michigan 03-70364, was lodged with the United States District Court for the Eastern District of Michigan on January 28, 2003. This proposed Consent Decree concerns a compliant filed by the United States of America against Frenchtown Harbor, Inc., pursuant to section 309 of the Clean Water Act, 33 U.S.C. 1319, to obtain injunctive relief from and impose civil penalties against the Defendant for the discharge of pollutants into waters of the United States without authorization by the United States Department of the Army in violation of section 301(a) of the Clean Water Act, 33 U.S.C. 1311(a).

The proposed Consent Decree prohibits the Defendant from discharging any pollutant into waters of the United States except in compliance with the Clean Water act, requires the restoration of the violation site and the payment of $15,000 in civil penalties.

The Department of Justice will accept written comments relating to this proposed Consent Decree for thirty (30) days from the date of publication of this notice. Please address comments to Karen R. Hiyama, Assistant U.S. Attorney, 211 W. Fort Street, Suite 2001, Detroit, MI 48226, and refer to U.S. v. Frenchtown Harbor, Inc., USAO No. 2002V00808, DJ#90-5-1-1-16858.

The proposed Consent Decree may be examined at the Clerk's Office, United States District Court for the Eastern District of Michigan. In addition, the proposed Consent Decree may be viewed on the World Web at http://www.usdoj.gov/enrd/enrd-home.html.

Karen R. Hiyama,
Assistant U.S. Attorney, United States Attorney's Office, Eastern District of Michigan.

[FR Doc. 03-2832 Filed 2-5-03; 8:45 am]

BILLING CODE 4410-15-M